DEPARTMENT OF HOMELAND SECURITY

Coast Guard

[Docket No. USCG-2021-0628]

National Navigation Safety Advisory Committee Meeting

AGENCY: Coast Guard, Department of Homeland Security.

ACTION: Notice of federal advisory committee meeting.

SUMMARY: The National Navigation Safety Advisory Committee (Committee) will meet in Portsmouth, Virginia to discuss matters relating to maritime collisions, rammings, and groundings; Inland Rules of the Road; International Rules of the Road; navigation regulations and equipment; routing measures; marine information; and aids to navigation systems. The meeting will be open to the public.

DATES:

Meeting: The Committee will meet on Tuesday, September 21, and Wednesday, September 22, 2021, from 8 a.m. to 5:30 p.m. Eastern Daylight Time (EDT). Please note that this meeting may adjourn early if the Committee has completed its business.

Comments and supporting documentations: To ensure your comments are received by Committee members before the meeting, submit your written comments no later than September 15, 2021.

ADDRESSES: The meeting will be held at the Renaissance Portsmouth-Norfolk Waterfront hotel, 425 Water Street, Portsmouth, VA 23704. https://www.marriott.com/hotels/travel/orfpt-renaissance-portsmouth-norfolk-waterfront-hotel/?scid=bb1a189a-fec3-4d19-a255-4ba596febe2&y_source=1_MTYzODkzNC03MTUtbG9jYXRpb24uZ29vZ2xlX3dlYnNpdGVfb3ZlcnJpZGU%3D.

Pre-registration Information: Pre-registration is not required for access. Attendees will be required to follow COVID-19 safety guidelines promulgated by the Centers for Disease Control and Prevention (CDC). Masks will be provided for all attendees regardless of vaccination status. The most up to date CDC guidance can be found here: https://www.cdc.gov/coronavirus/2019-ncov/communication/guidance.html.

For information on facilities or services for individuals with disabilities or to request special assistance at the meeting, contact the individual listed in the FOR FURTHER INFORMATION CONTACT section of this notice.

Instructions: You are free to submit comments at any time, including orally at the meeting, but if you want Committee members to review your comment before the meeting, please submit your comments no later than September 15, 2021. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the words “Department of Homeland Security” and the docket number USCG-2021-0628. Comments received will be posted without alteration at https://www.regulations.gov, including any personal information provided. You may wish to view the Privacy and Security Notice available on the homepage of https://www.regulations.gov, and DHS's eRulemaking System of Records notice (85FR 14226, March 11, 2020). If you encounter technical difficulties with comment submission, contact the individual listed in the FOR FURTHER INFORMATION CONTACT section of this notice.

Docket Search: Documents mentioned in this notice as being available in the docket, and all public comment, will be in our online docket at https://www.regulations.gov and can be viewed by following that website's instructions. Additionally, if you go to the online docket and sign-up for email alerts, you will be notified when comments are posted.

FOR FURTHER INFORMATION CONTACT: Mr. George Detweiler, Alternate Designated Federal Officer of the National Navigation Safety Advisory Committee, telephone (202) 372-1566, or email George.H.Detweiler@uscg.mil.

SUPPLEMENTARY INFORMATION: Notice of this meeting is in compliance with the Federal Advisory Committee Act (5 U.S.C. appendix). The National Navigation Safety Advisory Committee is authorized by section 601 of the Frank LoBiondo Act of 2018 and is codified in 46 U.S.C. 15107. The Committee operates under the provisions of the Federal Advisory Committee Act (5 U.S.C. appendix) in addition to the administrative provisions applicable to all National Maritime Transportation Advisory Committees in 46 U.S.C. 15109. The Committee advises the Secretary of the Department of Homeland Security through the Commandant of the Coast Guard on matters relating to maritime collisions, rammings, and groundings; Inland Rules of the Road; International Rules of the Road; navigation regulations and equipment; routing measures; marine information; and aids to navigation systems.

Agenda

Day 1

The agenda for the September 21, 2021 is as follows:

1. Call to order.

2. Introduction.

3. Remarks by the Chairman and the Designated Federal Officer (DFO).

4. Roll call of Committee members and determination of a quorum.

5. Presentations on autonomous and unmanned systems, chart carriage requirements, and navigation safety in and around Offshore Renewable Energy Installations (OREI).

6. Presentation of Tasks. Following the above presentations, the Committee Chairman and the Designated Federal Officer will form subcommittees to discuss the following task statement:

1. Task Statement 21-01, Autonomous and unmanned systems.

2. Task Statement 21-02, Chart carriage requirement.

3. Task Statement 21-03, Navigation safety in and around Offshore Renewable Energy Installations.

7. Public comment period.

8. Report by Subcommittees on accomplishments.

9. Adjournment of meeting.

Day 2

The agenda for September 22, 2021 meetings is as follows:

1. Call to order.

2. Introduction.

3. Remarks by the Chairman and the DFO.

4. Roll call of Committee members and determination of a quorum.

5. Subcommittee discussions continued from Tuesday, 21 September, 2021.

6. Public comment period.

7. Subcommittee reports presented to the Committee.

8. Schedule next meeting date.

9. Closing remarks by the Chairman and the DFO.

10. Adjournment of meeting.

A copy of all meeting documentation will be available, by September 15, 2021, by going to the Coast Guard Homeport website, https://homeport.uscg.mil, selecting the Missions tab, and navigating to the Federal Advisory Committees section. Alternatively, you may contact Mr. George Detweiler as noted in the FOR FURTHER INFORMATION CONTACT section above.

A public comment period will be held during each Subcommittee and full Committee meeting concerning matters being discussed. Speakers are requested to limit their comments to 5 minutes. Please note that the public comment period will end following the last call for comments. Contact the individual listed in the FOR FURTHER INFORMATION CONTACT section above, to register as a speaker.

Dated: August 27, 2021.
Michael D. Emerson,
Director, Marine Transportation Systems.

[FR Doc. 2021-18962 Filed 9-1-21; 8:45 am]

BILLING CODE 9110-04-P